DEPARTMENT OF DEFENSE

Department of the Army; Corps of Engineers

Intent To Prepare a Draft Environmental Impact Statement for Modification of the Bayou Lafourche and Lafourche-Jump Waterway, Louisiana, Navigation Channel Project in Lafourche Parish

AGENCY: U.S. Army Corps of Engineers, Department of the Army, DOD.

ACTION: Notice of intent.

SUMMARY: The U.S. Army Corps of Engineers (Corps), New Orleans District will be the lead agency for a draft Environmental Impact Statement (DEIS), to be integrated with a Feasibility Report (FR), for the Bayou Lafourche and Lafourche-Jump Waterway, Louisiana Project, in Lafourche Parish. The FR and DEIS will investigate channel modification to the Bayou Lafourche Waterway up to as much as 50 feet deep. The integrated document will be prepared by the Greater Lafourche Port Commission (GLPC).

FOR FURTHER INFORMATION CONTACT: Questions about the project and the DEIS should be addressed to: Mr. Sean Mickal, U.S. Army Corps of Engineers, Regional Planning and Environment Division South, Planning Branch, Room 141, 7400 Leake Avenue, New Orleans, LA 70118-3651, by email at sean.p.mickal@usace.army.mil, or by telephone at (504) 862-2319.

SUPPLEMENTARY INFORMATION:

1. Authority. The DEIS is being prepared by the GLPC under authority granted by Section 203 of the Water Resources Development Act (WRDA) of 1986, as amended by Section 1014(b) of the Water Resources Reform and Development Act (WRRDA) of 2014.

2. Proposed Action. The proposed action is to increase the controlling depth of the Bayou Lafourche Waterway federal navigation channel. Economic analyses will be performed to determine the current and future needs for the channel by various draft vessels, and the costs and benefits of maintaining channels of various sizes.

3. Alternatives. An array of alternatives will be analyzed and the most feasible of the alternatives will be recommended. Alternatives range from the `No Action' Alternative to enlarging and extending the access channel to the natural contour of the Gulf at approximately -50 ft. Mean Lower Low Water. The selected contour is to be optimized in the process of preparing the Integrated FR and DEIS. All feasible and reasonable alternatives will be considered, including alternatives with varying depths and lengths, for detailed analysis.

4. Scoping. Scoping is the process for determining the scope of alternatives and significant issues to be addressed in the DEIS. For this study, a letter will be sent to all parties believed to have an interest in the study, requesting their input on alternatives and issues to be evaluated. The letter will also notify interested parties of a public scoping meeting that will be held in the local area. Notices will also be sent to local news media. All interested parties are invited to comment at this time, and anyone interested in this study should request to be included in the study mailing list. A public scoping meeting or meetings will be announced in the near future.

5. Purpose of and Need for the Project. The project will enlarge the existing authorized channel at Port Fourchon, Louisiana, to an engineering, economic and environmentally feasible depth and extend the main access channel to the natural contour of the Gulf of Mexico at the optimum depth. The project would include the construction of a turning basin or wider slip(s) within the port complex to accommodate larger vessels. The action is being proposed to provide adequate depth to accommodate deeper drafts of larger oil and gas exploration and service vessels plying the Gulf in deep waters; to provide depths required to move large oil and gas exploration and production rigs constructed and fabricated at the port to open water; to allow large oil and gas platforms to move from the Gulf to Port Fourchon for repair and refurbishment; and to provide adequate depth for other ongoing construction projects at the port.

6. Significant Issues. The tentative list of resources and issues, not exclusive, to be evaluated in the DEIS includes tidal wetlands, barrier shoreline habitat, aquatic resources, wildlife resources, essential fish habitat, water quality, air quality, threatened and endangered species, recreational resources, and cultural resources. Additional resources might include geological issues (including dredging and stabilization of fill areas) and impacts on visual resources. Socioeconomic items to be evaluated in the DEIS include navigation, business and industrial activity, employment, land use, property values, public/community facilities and services, tax revenues, population, community and regional growth, vehicular transportation, and noise.

7. Consultation, Coordination, and Review. The U.S. Fish and Wildlife Service (USFWS) will be assisting in the documentation of existing conditions and assessment of effects of project alternatives through Fish and Wildlife Coordination Act consultation procedures. The USFWS will also provide a Fish and Wildlife Coordination Act report. Endangered Species Act, Section 7 consultation, will also be conducted in close coordination with the USFWS and the National Marine Fisheries Service concerning threatened and endangered species. Consultation will also be done with the State Historic Preservation Office and federally recognized Indian Tribes. The proposed action will involve evaluation for compliance with guidelines established by Section 404(b) of the Clean Water Act; application (to the State of Louisiana) for Water Quality Certification pursuant to Section 401 of the Clean Water Act; certification of state lands, easements, and rights of way; and determination of Coastal Zone Management Act consistency. The DEIS will be distributed for review to all interested agencies, organizations, and individuals.

8. Estimated Date of Availability. It is estimated that this DEIS will be available to the public in November 2017. At least one public meeting will be held at that time, during which the public will be provided the opportunity to comment on the DEIS before it becomes final.

Dated: November 10, 2016.
Michael N. Clancy,
Colonel, U.S. Army, District Commander.

[FR Doc. 2016-28218 Filed 11-22-16; 8:45 am]

BILLING CODE 3720-35-P